DEPARTMENT OF COMMERCE

International Trade Administration

[A-570-501]

Natural Bristle Paint Brushes and Brush Heads From the People's Republic of China: Notice of Rescission of Antidumping Administrative Duty Review

AGENCY: Import Administration, International Trade Administration, Department of Commerce.

EFFECTIVE DATE: January 4, 2002.

SUMMARY: On February 28, 2001, the Department received a timely request from the Paint Applicator Division of the American Brush Manufacturers Association (the petitioner), to conduct an administrative review of the sales of Hebei Founder Import & Export Company (Hebei Founder) and Hunan Provincial Native Products Import & Export Corp. (Hunan Provincial) on February 28, 2001. On March 22, 2001, the Department initiated an administrative review of the antidumping duty order on natural bristle paintbrushes and paint brush heads (natural paintbrushes) for the period of review (POR) of February 1, 2000 through January 31, 2001. On September 12, 2001, the Department rescinded this review with respect to Hebei Founder. We are now rescinding this review with respect to Hunan Provincial as a result of the petitioner's withdrawal of its request for review.

FOR FURTHER INFORMATION CONTACT: Thomas Gilgunn, AD/CVD Enforcement Group III, Import Administration, U.S. Department of Commerce, 14th Street and Constitution Avenue, NW, Washington, DC 20230, telephone: (202) 482-4236.

SUPPLEMENTARY INFORMATION:

Background

On February 14, 2001, the Department published a notice of opportunity to request an administrative review of the antidumping duty order on natural paintbrushes from the People's Republic of China (PRC) (66 FR 10269). On February 28, 2001, the Department received a timely request from the petitioner for administrative reviews of Hunan Provincial and Hebei Founder in accordance with 19 CFR 351.213(b). On March 22, 2001, in accordance with 19 CFR 351.221(b)(1), the Department initiated an administrative review of the antidumping duty order on natural paintbrushes, for the period from February 1, 2000 through January 31, 2001, in order to determine whether merchandise imported into the United States is being sold at less than fair value prices. See Initiation of Antidumping and Countervailing Duty Administrative Reviews and Requests for Revocations in Part (66 FR 16037).

On September 12, 2001, pursuant to 19 CFR 351.213(d)(3), the Department rescinded the administrative review with regard to Hebei Founder since we found no entries or shipments from Hebei Founder during the POR. (See 66 FR 47450.) On December 6, 2001, the petitioner withdrew its request for this review with regard to Hunan Provincial.

Recission of Antidumping Administrative Review

The Department's regulations at 19 CFR 351.213(d)(1) provide that a party may withdraw its request for review within 90 days of the date of publication of the notice of initiation of the requested review. Although the petitioner's request for withdrawal was more than 90 days from the date of initiation, consistent with the Department's past practice in the context of administrative reviews conducted under section 751(a) of the Act, the Department has discretion to extend the time period for withdrawal on a case-by-case basis. (See e.g. Iron Construction Casings from Canada: Notice of Rescission of Antidumping Duty Administrative Review, 63 FR 45797 (August 27, 1998).) Rescission of this review would not prejudice any party in this proceeding, as Hunan Provincial would continue to receive its company-specific cash deposit rate to which it was subject at the time of the initiation of this review. The petitioners are the only party that requested a review of Hunan Provincial's sales for the February 1, 2000 through January 31, 2001 POR. Moreover, the Department has not yet devoted extensive time and resources to this review. Therefore, we determine that it is reasonable to extend the deadline under section 351.213(d), and to rescind this review.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This determination is issued and published in accordance with section 751 of the Tariff Act of 1930, as amended (19 U.S.C. 1675) and 19 CFR 351.213(d).

Dated: December 27, 2001.
Richard O. Weible,
Acting Deputy Assistant Secretary for Import Administration, Group III.

[FR Doc. 02-243 Filed 1-3-02; 8:45 am]

BILLING CODE 3510-DS-P